DEPARTMENT OF THE INTERIOR

Bureau of Land Management

[CA-670-1990; CA-40204]

Notice of Availability of the Final Environmental Impact Report (EIR)/Environmental Impact Statement (EIS) for the Proposed Mesquite Mine Expansion

AGENCY: Bureau of Land Management, Interior.

ACTION: Notice of availability.

SUMMARY: Newmont Gold Company (NGC), operator of the Mesquite gold mine located in Imperial County, California, has proposed to expand mining operations by a plan modification submitted to the Bureau of Land Management (BLM) El Centro field office, on November 30, 1998. Pursuant to section 102(2)(c) of the National Environmental Policy Act of 1969 (42 U.S.C. 4321-4347), and the California Environmental Quality Act (Public Resources Code, Section 21000, et seq.), the BLM and Imperial County, as lead agencies, have directed the preparation of a draft and final environmental impact report (EIR), environmental impact statement (EIS) by a third party contractor on the impacts of an expansion of this gold mining/processing operation, which would extend the mine a projected six years. The draft EIR/EIS was completed during August, 2000, followed by a combined Federal and State 60 day public review period. Written comments on the draft were accepted until October 30, 2000. The final EIR/EIS is an abbreviated document that consists of responses to comments on the draft and an errata section with specific modifications and corrections to the draft in response to comments. A revised executive summary and list of persons and agencies who received copies of the draft are also included. This information, in conjunction with the draft, constitutes the final EIR/EIS. The final EIR/EIS presents a preferred alternative derived from seven alternatives, including NGC's proposed action. The preferred alternative is the agencies' attempt to reduce or avoid the potential environmental impacts of the proposed action.

DATES: No action will be taken on the project for at least 30 days following publication of this notice.

ADDRESSES: Copies of the final EIR/EIS will be available at the Imperial County Planning and Building Department, 939 Main Street, El Centro, CA 92243; telephone (760) 482-4236, extension 4310. Text of the final is also available on-line at the BLM website: //www.ca.blm.gov/elcentro/mesquite/.

Public reading copies will be available for review at the following locations: (1) Bureau of Land Management, California State Office, 2800 Cottage Way, Sacramento, CA; (2) Bureau of Land Management, El Centro Field Office, 1661 South Main Street, El Centro, CA; (3) Imperial County Planning and Building Department, 939 Main Street, El Centro, CA; (4) local libraries in San Diego County, California, and Imperial County, California; and in the town of Yuma, Arizona.

FOR FURTHER INFORMATION: Contact Jurg Heuberger, Imperial County Planning and Building Department, 939 Main Street, El Centro, CA: telephone (760) 482-4236 extension 4310; or Kevin Marty, Bureau of Land Management, 1661 South 4th Street, El Centro, CA: telephone (760) 337-4422.

SUPPLEMENTARY INFORMATION: The Mesquite Mine began operations under an approved plan of operations during 1985. Since this time, plan modifications and expansions have occurred, which are summarized within the approved Mesquite Mine consolidated plan of operations dated October, 1995. On November 30, 1998, Newmont Gold Company, operator of the Mesquite Mine, submitted a plan of operations for an expansion of the mine. The existing mine site encompasses 5,200 acres, of which 3,655 acres have been disturbed by mining activities to date. The total new un-permitted area proposed for disturbance under the expansion is 190 acres.

The expansion would allow the company to continue extracting and processing economical gold deposits, delineated by drilling programs initiated during 1988 and continuing to date. The expansion would increase the mine life a projected six years. The plan modification proposes to process approximately 89 million tons of ore and 242 million tons of waste rock. The Big Chief and Rainbow pit expansions would encompass approximately 350 acres of Federal, State and private (patented) land, of which 76 acres would be new, unpermitted land disturbance. The plan modification also describes alternative methods for storage of waste rock, either in existing mined-out open pits, at new or expanded out-of-pit storage areas, or a combination of both; and construction of ancillary facilities including roads, fencing and drainage diversions. Current project is inactive; however if the price of gold increases to a favorable level, operations may be resumed.

Dated: March 5, 2002.
Greg Thomsen,
Field Manger.

[FR Doc. 02-11445 Filed 5-8-02; 8:45 am]

BILLING CODE 4310-40-P